DEPARTMENT OF COMMERCE

International Trade Administration

[C-570-021]

Melamine From the People's Republic of China: Rescission of Countervailing Duty Administrative Review; 2023

AGENCY: Enforcement and Compliance, International Trade Administration, Department of Commerce.

SUMMARY: The U.S. Department of Commerce (Commerce) is rescinding the administrative review of the countervailing duty (CVD) order on melamine from the People's Republic of China (China) covering the period of review (POR) January 1, 2023, through December 31, 2023, because, as explained below, there are no reviewable suspended entries for the two companies subject to this review.

DATES: Applicable July 23, 2025.

FOR FURTHER INFORMATION CONTACT: Brendan Quinn, AD/CVD Operations, Office III, Enforcement and Compliance, International Trade Administration, Department of Commerce, 1401 Constitution Avenue NW, Washington, DC 20230; telephone: (202) 482-5848.

SUPPLEMENTARY INFORMATION:

Background

On December 3, 2024, Commerce published in the Federal Register a notice of opportunity to request an administrative review of the CVD order on melamine from China, covering the period January 1, 2023, through December 31, 2023.¹ Commerce received a timely request for review of the Order from Cornerstone Chemical Company (the petitioner), identifying entries from two Chinese exporters and/or producers as subject to the review request: Sichuan Aolaite Chemical Co., Ltd. and Xinji Jiuyuan.²

¹ See Antidumping or Countervailing Duty Order, Finding, or Suspended Investigation; Opportunity to Request Administrative Review and Joint Annual Inquiry Service List, 89 FR 95737 (December 3, 2024); see also Melamine from the People's Republic of China: Antidumping Duty and Countervailing Duty Orders, 80 FR 80751 (December 28, 2015) (Order).

² See Petitioner's Letter, “Request for Administrative Review,” dated December 31, 2024.

On January 27, 2025, Commerce published in the Federal Register a notice of initiation of an administrative review with respect to these two companies, in accordance with section 751(a) of the Tariff Act of 1930, as amended (the Act).³ On February 12, 2025, Commerce released a memorandum indicating that there were no reviewable entries of subject merchandise produced and/or exported by either firm listed in the Initiation Notice during the POR based on a U.S. Customs and Border Protection (CBP) entry data query and notified all interested parties of its intent to rescind the review in full.⁴ Commerce provided parties an opportunity to submit comments on the data query results and intent to rescind.⁵ No party submitted comments to Commerce.

³ See Initiation of Antidumping and Countervailing Duty Administrative Reviews, 90 FR 8187 (January 27, 2025).

⁴ See Memorandum, “Results of U.S. Customs and Border Protection Data Query and Notification of Intent to Rescind,” dated February 12, 2025.

⁵ Id.

Rescission of Review

Pursuant to 19 CFR 351.213(d)(3), it is Commerce's practice to rescind an administrative review of an CVD order when there are no entries of subject merchandise during the POR for which liquidation is suspended.⁶ Normally, upon completion of an administrative review, the suspended entries are liquidated at the CVD assessment rate for the review period.⁷ Therefore, for an administrative review to be conducted, there must be a reviewable, suspended entry that Commerce can instruct CBP to liquidate at the calculated CVD assessment rate for the review period.⁸ As noted above, CBP data showed that there were no entries of subject merchandise from China during the POR for the companies under review, i.e., Sichuan Aolaite Chemical Co., Ltd. and Xinji Jiuyuan. Accordingly, in the absence of reviewable, suspended entries of subject merchandise during the POR, we are rescinding this administrative review, in its entirety, in accordance with 19 CFR 351.213(d)(3).

⁶ See, e.g., Certain Softwood Lumber Products from Canada: Final Results and Final Rescission, in Part, of the Countervailing Duty Administrative Review, 2020, 87 FR 48455 (August 9, 2022); see also Certain Non-Refillable Steel Cylinders from the People's Republic of China: Rescission of Countervailing Duty Administrative Review; 2020-2021, 87 FR 64008 (October 21, 2022).

⁷ See 19 CFR 351.212(b)(2).

⁸ See 19 CFR 351.213(d)(3).

Cash Deposit Requirements

As Commerce has proceeded to a final rescission of this administrative review, no cash deposit rates will change. Accordingly, the current cash deposit requirements shall remain in effect until further notice.

Assessment Rates

Commerce will instruct CBP to assess countervailing duties on all appropriate entries. Countervailing duties shall be assessed at rates equal to the cash deposit of estimated countervailing duties required to the time of entry, or withdrawal from warehouse, for consumption, in accordance with 18 CFR 351.212(c)(1)(i). Commerce intends to issue assessment instructions to CBP no earlier than 35 days after the date of publication of this rescission notice in the Federal Register.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of the APO materials, or conversion to judicial protective order is hereby requested. Failure to comply with regulations and terms of an APO is a violation, which is subject to sanction.

Notification to Interested Parties

We are issuing and publishing this notice in accordance with sections 751(a)(1) and 777(i)(1) of the Act, and 19 CFR 351.221(b)(4).

Dated: July 18, 2025.
Scot Fullerton,
Acting Deputy Assistant Secretary for Antidumping and Countervailing Duty Operations.

[FR Doc. 2025-13853 Filed 7-22-25; 8:45 am]

BILLING CODE 3510-DS-P